DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and Title 30 of the Code of Federal Regulations Part 44 govern the application, processing, and disposition of petitions for modification. This notice is a summary of petitions for modification submitted to the Mine Safety and Health Administration (MSHA) by the parties listed below.

DATES: All comments on the petitions must be received by the MSHA's Office of Standards, Regulations, and Variances on or before February 25, 2016.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452, Attention: Sheila McConnell, Acting Director, Office of Standards, Regulations, and Variances. Persons delivering documents are required to check in at the receptionist's desk in Suite 4E401. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations, and Variances at 202-693-9447 (Voice), barron.barbara@dol.gov (Email), or 202-693-9441 (Facsimile). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2015-007-M.

Petitioner: Frontier-Kemper Constructors, Inc., 1695 Allen Road, Evansville, Indiana 47710-3394.

Mine: Solvay Chemicals, Inc., P.O. Box 1167, 400 County Road 85, Green River, Wyoming 82935, MSHA I.D. No. 48-01295, located in Sweetwater County, Wyoming.

Regulation Affected: 30 CFR 57.22606(a) and (c) (Explosive materials and blasting units (III mines).

Modification Request: The petitioner requests a modification of the existing standard to permit the use of nonpermissible detonators to detonate explosives in the blast holes during work at the construction of the No. 4 shaft. The petitioner states that application of the standard introduces a safety risk to the miners and the alternative method outlined in the petition will at all times guarantee no less than the same measure of protection afforded the miners by the standard. The petitioner states that:

(1) Frontier-Kemper Constructors, Inc. (FKCI), working as an independent contractor for Solvay Chemicals, will construct a twenty-two foot finished diameter shaft. The shaft will be raise-drilled to sixteen feet, six inches in diameter and then slashed to a final excavated diameter ranging from twenty-four to twenty-eight feet. The concrete lining of the shaft will advance concurrently with the slashing operation to minimize the miner's exposure to open ground.

(2) FKCI is requesting to use nonpermissible detonators during slashing operations because geological ground conditions in this area are highly conductive and interfere with permissible electric donators. The ground inhibits the ability to safely conduct electricity to detonate a blast round. Because of this, the workers and the mine are at a risk of misfires and partial round detonation.

FKCI proposes to use the following blasting methods and practices for the excavation required during construction of Solvay Chemicals Shaft #4:

—Only the explosives and detonators specified in this plan or explosive materials MSHA approved in 30 CFR part 15 will be used.

—Before initiating a blast, all persons will be withdrawn from the shaft. All blasts will be initiated from the surface.

—The air will be tested immediately prior to loading of the blast round and continuously monitored with an instrument capable of providing both visual and audible alarms as required in 30 CFR 57.22227.

—If 1.0 percent or more methane is found prior to loading blast holes or after loading has commenced, the loading will immediately cease and procedures as required in 30 CFR 57.22234 will be followed.

—A minimum air flow of 6000 cfm will be maintained in the shaft at all times during loading of blast holes as required in 30 CFR 57.22213.

—All regulations in the 30 CFR and safeguards in MSDS sheets will be adhered to.

—In the event of mine ventilation loss, the entire mine including Solvay Shaft #4 will be evacuated.

—Warning will be given to the employees working underground at Solvay Shaft #4 before a blast round is initiated.

—Non-electric tubing will be inspected for cuts, nicks and abrasions. The tubing must be free of defects in order to confine the detonation and will not be used if these defects are found.

—A visual inspection around the plug will be done prior to moving the work deck to ensure nothing is caught. In addition, only personnel responsible for loading the round will be on the bench. The round will be initiated with an electric cap.

The petitioner states that:

(1) Blasting for this project will utilize MS delays. FKCI's past experience using MS delays in similar environments has been successful. The Nonel MS caps and detonation cord significantly reduces the amount of cutoffs and misfires when blasting in a “shaft bottom” environment. FKCI has successfully used this method in areas of methane without incident.

(2) Included in this petition are blast pattern drawings indicating MS delay times and drilling depth, manufacturer data sheets for blasting materials, and a ventilation plan showing the route of blasting smoke out of the mine.

(3) FKCI believes that the intent of 30 CFR 57.22606(a) and (c) will be achieved along with the other safety concerns contained in this petition.

The petitioner asserts that application of the existing standard will result in a diminution of safety to the miners and that the proposed alternative method will at all times guarantee no less than the same measure of protection afforded by the existing standard.

Sheila McConnell,
Acting Director, Office of Standards, Regulations, and Variances.

[FR Doc. 2016-01429 Filed 1-25-16; 8:45 am]

BILLING CODE 4520-43-P